DEPARTMENT OF TRANSPORTATION

Federal Aviation Administration

Notice of Intent To Rule on Application (01-03-C-00-LYH) To Impose and Use the Revenue From a Passenger Facility Charge (PFC) at Lynchburg Regional Airport, Lynchburg, Virginia

AGENCY: Federal Aviation Administration (FAA), DOT.

ACTION: Notice of Intent to rule on application.

SUMMARY: The FAA proposes to rule and invites public comment on the application to impose and use the revenue from a PFC at Lynchburg Regional Airport under the provisions of the Aviation Safety and Capacity Expansion Act of 1990 (Title IX of the Omnibus Budget Reconciliation Act of 1990) (Pub. L. 101-508) and part 158 of the Federal Aviation Regulations (14 CFR part 158).

DATES: Comments must be received on or before December 7, 2001.

ADDRESSES: Comments on this application may be mailed or delivered in triplicate to the FAA at the following address: Arthur Winder, Project Manager, WASHINGTON AIRPORTS DISTRICT OFFICE, 93723 Air Freight Lane, Suite 210, Dulles, Va. 22016.

In addition, one copy of any comments submitted to the FAA must be mailed or delivered to Mark F. Courtney, Airport Manager, of Lynchburg Regional Airport at the following address: Lynchburg Regional Airport, 4308 Wards Road, Suite 100, Lynchburg, Virginia 24502-3532.

Air carriers and foreign air carriers may submit copies of written comments previously provided to the City of Lynchburg under § 158.23 of part 158.

FOR FURTHER INFORMATION CONTACT: Arthur Winder, Project Manager, Washington Airports District Office, 23723 Air Freight Lane, Suite 210, Dulles, Va. 22016, (703) 661-1363. The application may be reviewed in person at this same location.

SUPPLEMENTARY INFORMATION: The FAA proposes to rule and invites public comment on the application to impose and use the revenue from a PFC at Lynchburg Regional Airport under the provisions of the Aviation Safety and Capacity Expansion Act of 1990 (Title IX of the Omnibus Budget Reconciliation Act of 1990) (Pub. L. 101-508) and part 158 of the Federal Aviation Regulations (14 CFR part 158).

On October 12, 2001, the FAA determined that the application to impose and use the revenue from a PFC submitted by Lynchburg Regional Airport was substantially complete within the requirements of § 158.25 of part 158. The FAA will approve or disapprove the application, in whole or in part, no later than January 10, 2002.

The following is a brief overview of the application.

PFC Application No.: 01-03-C-00-LYH.

Level of the proposed PFC: $4.50.

Proposed charge effective date: March 1, 2002.

Proposed charge expiration date: March 1, 2006.

Total estimated PFC revenue: $1,235,568.

Brief description of proposed project(s):

—Develop PFC Program/Application

—Construct Snow Equipment/Maintenance Building

—Acquire Passenger Lift Service

—Acquire Friction Measuring Equipment

—Acquire Airport Security Equipment

—Update Airport Layout Plan

—Acquire Snow Removal Equipment

—Design Obstruction Removal Runway 3/21

—Design Rehabilitate Runway 3/21

—Acquire Land Runway 21 RPZ

—Acquire Land for Airport Development

—Acquire Land for Obstruction Removal Runway 3/21

—Design Rehabilitate Runway 17/35

—Remove Obstructions Runway 17/35

—Rehabilitate HIRL's Runway 3-21

—Rehabilitate MITL's Taxiway B

—Install Airfield Security Access Control System

—Rehabilitate General Aviation Apron

—Construct Expansion of General Aviation Apron

—Rehabilitate and Light Access Roadway

—Install Airfield Guidance Signs

—Acquire Land for Obstruction Removal Runway 17/35

—Install PAPI Runway 3

—Acquire ARFF Vehicle

Class or classes of air carriers which the public agency has requested not be required to collect PFCs: Nonscheduled/On-Demand Air taxi/Air Carrier operators filing FAA Form 1800-31.

Any person may inspect the application in person at the FAA office listed above under FOR FURTHER INFORMATION CONTACT and at the FAA regional Airports Office located at: Federal Aviation Administration, Airports Division, AEA-610, 1 Aviation Plaza, Jamaica, NY 11434-4809.

In addition, any person may, upon request, inspect the application, notice and other documents germane to the application in person at the Lynchburg Regional Airport.

Issued in Dulles, VA 22016, October 18, 2001.
Terry J. Page,
Manager, Washington Airports District Office.

[FR Doc. 01-27993 Filed 11-6-01; 8:45 am]

BILLING CODE 4910-13-M